DEPARTMENT OF THE TREASURY

Office of Foreign Assets Control

[Case IDs VENEZUELA-EO13850-15685, VENEZUELA-EO13850-15811, VENEZUELA-EO13850-15814]

Notice of OFAC Sanctions Actions

AGENCY: Office of Foreign Assets Control, Department of the Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. Additionally, OFAC is publishing the names of persons whose property and interests in property have been unblocked. OFAC is also publishing an update to the identifying information of persons currently included in the SDN List.

DATES: See Supplementary Information section.

FOR FURTHER INFORMATION CONTACT: OFAC: Associate Director for Global Targeting, tel: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The SDN List and additional information concerning OFAC sanctions programs are available on OFAC's website (https://www.treasury.gov/ofac).

Notice of OFAC Actions

A. On March 19, 2019, OFAC determined that the property and interests in property subject to U.S. jurisdiction of the following persons are blocked under the relevant sanctions authority listed below.

Individual

1. PERDOMO MATA, Adrian Antonio, Miranda, Venezuela; DOB 16 Sep 1969; Gender Male; Cedula No. 10540241 (Venezuela) (individual) [VENEZUELA-EO13850].

Designated pursuant to section 1(a)(i) of Executive Order 13850 (E.O. 13850) of November 1, 2018, “Blocking Property of Additional Persons Contributing to the Situation in Venezuela,” as amended by Executive Order 13857, “Taking Additional Steps to Address the National Emergency with Respect to Venezuela,” of January 25, 2019, for operating in the gold sector of the Venezuelan economy.

Entity

1. MINERVEN (a.k.a. COMPANIA GENERAL DE MINERIA DE VENEZUELA; a.k.a. CORPORACION VENEZOLANA DE GUAYANA MINERVEN C.A.; a.k.a. CVG COMPANIA GENERAL DE MINERIA DE VENEZUELA CA; a.k.a. CVG MINERVEN), Via principal Carapal, El Callao, Bolivar, Venezuela; Zona Industrial Caratal, El Callao, Bolivar, Venezuela; National ID No. J006985970 (Venezuela) [VENEZUELA-EO13850].

Designated pursuant to section 1(a)(i) of Executive Order 13850 of November 1, 2018, “Blocking Property of Additional Persons Contributing to the Situation in Venezuela,” as amended by Executive Order 13857, “Taking Additional Steps to Address the National Emergency with Respect to Venezuela,” of January 25, 2019, for operating in the gold sector of the Venezuelan economy.

B. On March 19, 2019, OFAC removed from the SDN List the persons listed below, whose property and interests in property were blocked pursuant to section 1(a)(ii) of E.O. 13850.

Individuals

1. PERDOMO ROSALES, Maria Alexandra (a.k.a. DE PERDOMO, Maria A; a.k.a. DE PERDOMO, Maria Alejandra; a.k.a. PERDOMO, Maria Alexandra; a.k.a. PERDOMO-ROSALES, Maria), 144 Isla Dorada Blvd., Coral Gables, FL 33146, United States; 4100 Salzedo Street, Apt 1010, Miami, FL 33146, United States; DOB 25 Mar 1972; citizen Venezuela; Gender Female; Cedula No. 10538067 (Venezuela); Passport 135278046 (Venezuela) expires 14 Oct 2020; alt. Passport 079280833 (Venezuela) expires 22 Oct 2018; alt. Passport 018516885 (Venezuela) expires 04 Dec 2013 (individual) [VENEZUELA-EO13850] (Linked To: GORRIN BELISARIO, Raul).

2. TARASCIO-PEREZ, Mayela Antonina (a.k.a. DE PERDOMO, Mayela T; a.k.a. DE PERDOMO, Mayela Tarascio; a.k.a. TARASCIO DE PERDOMO, Mayela A; a.k.a. TARASCIO DE PERDOMO, Mayela Antonina; a.k.a. TARASCIO, Mayela; a.k.a. TARASCIO-PEREZ, Mayela), 4100 Salzedo St., Unit 804, Coral Gables, FL 33146, United States; DOB 20 Feb 1985; citizen Venezuela; Gender Female; Passport 083111668 (Venezuela) expires 28 Jan 2019; alt. Passport 023639818 (Venezuela) expires 13 Jun 2014; alt. Passport C1453352 (Venezuela) expires 02 Nov 2009 (individual) [VENEZUELA-EO13850] (Linked To: PERDOMO ROSALES, Gustavo Adolfo).

C. On March 19, 2019, OFAC updated the SDN List for the following entities, whose property and interests in property continue to be blocked under the relevant sanctions authority listed below.

Entities

1. CONSTELLO INC., Saint Kitts and Nevis [VENEZUELA-EO13850] (Linked To: PERDOMO ROSALES, Gustavo Adolfo).

Designated pursuant to section 1(a)(iv) of E.O. 13850 for being owned or controlled by, or having acted or purported to act for or on behalf of, directly or indirectly, PERDOMO ROSALES, Gustavo Adolfo, a person whose property and interests in property are blocked pursuant to E.O. 13850.

2. CONSTELLO NO. 1 CORPORATION, 4100 Salzedo Street, Unit 804, Coral Gables, FL 33146, United States; DE, United States [VENEZUELA-EO13850] (Linked To: PERDOMO ROSALES, Gustavo Adolfo).

Designated pursuant to section 1(a)(iv) of E.O. 13850 for being owned or controlled by, or having acted or purported to act for or on behalf of, directly or indirectly, PERDOMO ROSALES, Gustavo Adolfo, a person whose property and interests in property are blocked pursuant to E.O. 13850.

3. MAGUS HOLDINGS USA, CORP., 4100 Salzedo St., Unit 804, Coral Gables, FL 33146, United States [VENEZUELA-EO13850] (Linked To: PERDOMO ROSALES, Gustavo Adolfo).

Designated pursuant to section 1(a)(iv) of E.O. 13850 for being owned or controlled by, or having acted or purported to act for or on behalf of, directly or indirectly, PERDOMO ROSALES, Gustavo Adolfo, a person whose property and interests in property are blocked pursuant to E.O. 13850.

4. RIM GROUP INVESTMENTS I CORP., 4100 Salzedo Street, Apt 1010, Miami, FL 33146, United States; 4100 Salzedo Street, Unit 608, Coral Gables, FL 33146, United States; 4100 Salzedo Street, Unit 807, Coral Gables, FL 33146, United States [VENEZUELA-EO13850] (Linked To: GORRIN BELISARIO, Raul).

Designated pursuant to section 1(a)(iv) of E.O. 13850 for being owned or controlled by, or having acted or purported to act for or on behalf of, directly or indirectly, GORRIN BELISARIO, Raul, a person whose property and interests in property are blocked pursuant to E.O. 13850.

5. RIM GROUP INVESTMENTS II CORP., 4100 Salzedo Street, Apt 1010, Miami, FL 33146, United States; 4100 Salzedo Street, Unit 813, Coral Gables, FL 33146, United States; 4100 Salzedo Street, Unit 913, Coral Gables, FL 33146, United States [VENEZUELA-EO13850] (Linked To: GORRIN BELISARIO, Raul).

Designated pursuant to section 1(a)(iv) of E.O. 13850 for being owned or controlled by, or having acted or purported to act for or on behalf of, directly or indirectly, GORRIN BELISARIO, Raul, a person whose property and interests in property are blocked pursuant to E.O. 13850.

6. RIM GROUP INVESTMENTS III CORP., 4100 Salzedo Street, Apt 1010, Miami, FL 33146, United States; 144 Isla Dorada Blvd., Coral Gables, FL 33143, United States [VENEZUELA-EO13850] (Linked To: GORRIN BELISARIO, Raul).

Designated pursuant to section 1(a)(iv) of E.O. 13850 for being owned or controlled by, or having acted or purported to act for or on behalf of, directly or indirectly, GORRIN BELISARIO, Raul, a person whose property and interests in property are blocked pursuant to E.O. 13850.

7. RIM GROUP INVESTMENTS, CORP., 4100 Salzedo Street, Apt 1010, Coral Gables, FL 33146, United States [VENEZUELA-EO13850] (Linked To: GORRIN BELISARIO, Raul).

Designated pursuant to section 1(a)(iv) of E.O. 13850 for being owned or controlled by, or having acted or purported to act for or on behalf of, directly or indirectly, GORRIN BELISARIO, Raul, a person whose property and interests in property are blocked pursuant to E.O. 13850.

Dated: May 15, 2019.
Andrea Gacki,
Director, Office of Foreign Assets Control.

[FR Doc. 2019-10494 Filed 5-20-19; 8:45 am]

BILLING CODE 4810-AL-P